Executive Order 14255 of March 31, 2025

Establishing the United States Investment Accelerator

By the authority vested in me as President by the Constitution and the laws of the United States of America, it is hereby ordered:

Section 1. Purpose. The United States is the most powerful economy in the world, but slow, complex, and burdensome American regulatory processes at every stage of a company's development and operation make significant domestic and foreign investment harder than necessary. Regulations hamper investment, permitting, and site selection, and numerous overlapping Federal, State, and local legal regimes with complex and often duplicative requirements significantly delay construction. It is in the interest of the American people that the Federal Government dramatically expand its assistance to companies seeking to invest and build in the United States.

Sec. 2. Policy. It is the policy of the United States to modernize its processes to attract substantial domestic and foreign investment in the United States and to actively assist those building here for the benefit of our Nation's economic prosperity to unleash investment from our small businesses to the largest companies.

Sec. 3. The United States Investment Accelerator. (a) Within 30 days of the date of this order, the Secretary of Commerce, in coordination with the Secretary of the Treasury and the Assistant to the President for Economic Policy, shall establish within the Department of Commerce an office named the United States Investment Accelerator (Investment Accelerator). The Investment Accelerator shall facilitate and accelerate investments above $1 billion in the United States by assisting investors as they navigate United States Government regulatory processes efficiently, reduce regulatory burdens where consistent with applicable law, increase access to and use of our national resources where appropriate and consistent with applicable law, facilitate research collaborations with our national labs, and work with State governments in all 50 States to reduce regulatory barriers to, and increase, domestic and foreign investment in the United States.

(b) The Investment Accelerator shall be headed by an Executive Director and staffed with legal, transactional, operational, and support staff as directed by the Secretary of Commerce. The Investment Accelerator shall be responsible for the CHIPS Program Office within the Department of Commerce, which shall focus on delivering the benefit of the bargain for taxpayers by negotiating much better deals than those of the previous administration.

(c) The Investment Accelerator shall identify any existing mechanisms, exceptions, and opportunities in Federal law that can be used to assist foreign and domestic investors, consistent with the protection of national security.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 31, 2025.

[FR Doc. 2025-05908

Filed 4-2-25; 11:15 am]

Billing code 3395-F4-P